DEPARTMENT OF THE INTERIOR

Bureau of Land Management

[NV-910-08-0777XX]

Notice of Public Meeting: Sierra Front-Northwestern Great Basin Resource Advisory Council, Northeastern Great Basin Resource Advisory Council, and Mojave-Southern Great Basin Resource Advisory Council

AGENCY: Bureau of Land Management, Interior.

ACTION: Combined Resource Advisory Council Meeting.

SUMMARY: In accordance with the Federal Land Policy and Management Act and the Federal Advisory Committee Act of 1972 (FACA), the Department of the Interior, Bureau of Land Management (BLM) Nevada Resource Advisory Councils meeting will be held as indicated below.

DATES: The three councils will meet on Thursday, November 15, 2007, from 8 a.m. to 5 p.m., and Friday, November 16, 2007, from 8 a.m. to 2 p.m., at the Gold Dust West Hotel-Casino, 2171 Highway 50 East, Carson City, Nevada.

FOR FURTHER INFORMATION CONTACT: Doran Sanchez, Chief, Office of Communications, BLM Nevada State Office, 1340 Financial Blvd., Reno, NV, 89502, telephone (775) 861-6586.

SUPPLEMENTARY INFORMATION: The 15-member Councils advise the Secretary of the Interior, through the BLM, on a variety of planning and management issues associated with public land management in Nevada. On Thursday, November 15, agenda topics include an overview of BLM Nevada and fiscal year 2008 priorities for various programs including resources, land, planning, minerals, renewable energy, geothermal program, and law enforcement; an update on Round 9 funding through the Southern Nevada Public Land Management Act; and grazing permit renewals. A wildfire management panel discussion will include representatives from the offices of Senator Reid and Senator Ensign, the BLM State Director, the Humboldt-Toiyable National Forest Supervisor and the Nevada Division of Forestry.

On Friday, November 16, the three Resource Advisory Councils (RACs) will hold individual meetings to elect officers, establish agendas and meeting dates for 2008 and other business as necessary. The RACs will reconvene for a joint session with a report from each RAC.

An agenda is available at http://www.blm.gov/nv/. All meetings are open to the public. The public may present written comments to the three RAC groups or the individual RACs. The public comment period for the Council meeting will be at 3 p.m. on Thursday, November 15. Individuals who plan to attend and need further information about the meeting or need special assistance such as sign language interpretation or other reasonable accommodations, may contact Nancy Thompson at the BLM Nevada State Office, (775) 861-6586 or nancy_thompson@nv.blm.gov.

Dated: October 10, 2007.
Ron Wenker,
State Director, Nevada.

[FR Doc. E7-20498 Filed 10-16-07; 8:45 am]

BILLING CODE 4310-HC-P